NUCLEAR REGULATORY COMMISSION

[Docket No. 70-7002]

Portsmouth Gaseous Diffusion Plant United States Enrichment Corporation; Notice of Consideration of Request for Temporary Exemption

AGENCY: Nuclear Regulatory Commission.

ACTION: Notice of consideration of request for temporary exemption.

SUMMARY: The Nuclear Regulatory Commission (Commission) is considering the issuance of a temporary exemption from the requirement to perform an emergency preparedness (EP) exercise every 2 years for the Portsmouth Gaseous Diffusion Plant operated by the United States Enrichment Corporation (USEC). The request for temporary exemption is necessary because USEC had to postpone the required scheduled EP exercise because of the terrorist attacks on the United States, lack of availability of Federal agencies, and the current heightened alert status of the plant. USEC expects to conduct the EP exercise by April 30, 2002. The NRC has prepared an environmental assessment with a finding of no significant impact on the request.

FOR FURTHER INFORMATION CONTACT: Dan E. Martin, Project Manager, Special Projects Branch, Division of Fuel Cycle and Safeguards, Office of Nuclear Material Safety and Safeguards, U.S. Nuclear Regulatory Commission, Washington, DC 20555, telephone: (301) 415-7254, e-mail dem1@nrc.gov.

SUPPLEMENTARY INFORMATION: The Commission is considering the issuance of a temporary exemption from the requirement to perform an emergency preparedness exercise every 2 years, pursuant to 10 CFR part 76, for the Portsmouth Gaseous Diffusion Plant (PORTS), operated by USEC. The facility is authorized to use Special Nuclear Material (SNM) in the enrichment of natural uranium to prepare low-enriched uranium to be used by others in the fabrication of nuclear fuel pellets and fuel assemblies and operates near Piketon, Ohio.

The PORTS facility was scheduled to conduct an EP exercise on September 12, 2001. This exercise was postponed because of the terrorist attacks on the United States that occurred on September 11, 2001. Because of the ongoing high alert status of the plant, and the need to coordinate with several offsite agencies and groups, the PORTS EP exercise will not be performed this calendar year. USEC expects to conduct the exercise no later than April 30, 2002.

The last EP exercise conducted at the PORTS facility was held on September 14, 1999. USEC's Emergency Plan, in accordance with 10 CFR 76.91(l), requires that plant personnel plan and conduct biennial EP exercises. Because the next exercise will not be conducted during calendar year 2001, USEC has requested a temporary exemption from the requirement to conduct biennial EP exercises. The NRC staff has prepared an environmental assessment of the proposed action and reached a finding of no significant impact.

Environmental Assessment

Identification of the Proposed Action

The proposed action would grant temporary schedular relief from the requirement pursuant to 10 CFR 76.91(l) to perform a biennial EP exercise during calendar year 2001. The proposed action would allow USEC to conduct the PORTS 2001 biennial exercise as late as April 30, 2002. The proposed action is in accordance with USEC's request for exemption dated October 4, 2001.

Need for the Proposed Action

The proposed action is necessary to support a request to USEC by the United States Department of Energy (DOE) that the EP exercise scheduled for September 12, 2001, be postponed until calendar year 2002. Furthermore, because of the heightened state of security alert that the plant is under and the unavailability of some participants, USEC has determined that it would not be prudent to hold the 2001 biennial EP exercise during calendar year 2001. Allowing the delay would avoid overlap with the current state of high alert and allow fuller participation by other agencies and groups.

Environmental Impacts of the Proposed Action

The proposed action would not materially affect the emergency response capabilities of the PORTS facility. The last EP exercise was conducted on September 14, 1999, and there were no issues identified which required immediate corrective action. NRC reviews and inspections since the 1999 exercise have not identified a decline in the effectiveness of USEC's emergency response capability. The postponement should have no impact on the effectiveness of USEC's emergency response capability. The proposed action will not increase the probability or consequences of accidents, no changes are being made in the amounts or types of any effluents that could be released offsite, and there is no increase in individual or cumulative radiation exposure. Accordingly, the Commission concludes that there are no significant radiological impacts associated with the proposed action.

With regard to potential nonradiological impacts, the proposed action does not affect nonradiological plant effluents and has no other environmental impact. Accordingly, the Commission concludes that there are no significant nonradiological impacts associated with the proposed action.

Alternatives to the Proposed Action

Since the Commission has concluded that there is no discernible environmental impact associated with the proposed action, any alternatives with equal or lesser impact need not be evaluated. As an alternative to the proposed action, the staff considered denial of the proposed action. Denial of the proposed action would result in no change in environmental impacts and would result in hardship to USEC, DOE, and perhaps other participants. The environmental impacts of the proposed action and the alternative action are similar.

Alternative Use of Resources

The proposed action does not involve the use of any resources beyond those already necessary to conduct the EP exercise during 2001, and would merely delay the exercise.

Agencies and Persons Consulted

In accordance with its stated policy, the NRC staff consulted with State of Ohio official, Carol O'Claire, Supervisor, Radiological Branch, Ohio Emergency Management Agency, and U.S. Department of Energy official Randall M. DeVault, Group Leader, Transition and Technology Group, Office of Nuclear Fuel Security and Uranium Technology, regarding the environmental impact of the proposed action. No objections were received.

Consultations with the U.S. Fish and Wildlife Service and the State Historic Preservation Officer were not performed because of the lack of any conceivable impact to fish and wildlife or historic assets.

Finding of No Significant Impact

Based on the environmental assessment, the Commission concludes that the proposed action will not have a significant effect on the quality of the human environment. Accordingly, the Commission has determined not to prepare an environmental impact statement for the proposed action.

List of Preparers

This document was prepared by Dan E. Martin, Project Manager, Special Projects Branch, Division of Fuel Cycle Safety and Safeguards, Office of Nuclear Material Safety and Safeguards. Mr. Martin is the Project Manager for the Portsmouth Gaseous Diffusion Plant.

For further details with respect to the proposed action, see the USEC letter request dated October 4, 2001, available for public inspection at the Commission's Public Document Room at One White Flint North, 11555 Rockville Pike, Rockville, MD, and accessible electronically through the ADAMS Public Electronic Reading Room link at the NRC Web Site (http://www.nrc.gov).

Dated at Rockville, Maryland, this 26th day of November, 2001.
For the Nuclear Regulatory Commission.
Eric J. Leeds,
Chief, Special Projects Branch, Division of Fuel Cycle Safety and Safeguards, Office of Nuclear Material Safety and Safeguards.

[FR Doc. 01-29969 Filed 12-3-01; 8:45 am]

BILLING CODE 7590-01-P